DEPARTMENT OF VETERANS AFFAIRS

Advisory Committee on Prosthetics and Special Disabilities Programs; Notice of Meeting

The Department of Veterans Affairs (VA) gives notice under Public Law 92-463 (Federal Advisory Committee Act) that a meeting of the Advisory Committee on Prosthetics and Special Disabilities Programs will be held November 7-8, 2007, in Room C7A, at VA Central Office, 810 Vermont Avenue, NW., Washington, DC. The sessions will convene at 8:30 a.m. each day and will adjourn at 4:30 p.m. on November 7 and will end at 12 Noon on November 8. The meeting is open to the public.

The purpose of the Committee is to advise the Secretary of Veterans Affairs on VA's prosthetic programs designed to provide state-of-the-art prosthetics and the associated rehabilitation research, development, and evaluation of such technology. The Committee also provides advice to the Secretary on special disability programs which are defined as any program administered by the Secretary to serve veterans with spinal cord injury, blindness or visual impairment, loss of extremities or loss of function, deafness or hearing impairment, and other serious incapacities in terms of daily life functions.

On November 7, the Committee will be briefed by the Chief Consultant for Rehabilitation Strategic Healthcare Group, Chief of Physical Medicine & Rehabilitation Service, Deputy Director of Vocational Rehabilitation & Employment Services, the Chief of Prosthetics and Clinical Logistics, Director of Retinal Surgery from Walter Reed Army Medical Center, a VA panel presentation on amputee care, and the Chief Consultant for Rehabilitation Strategic Healthcare Group. On November 8, the Committee will be briefed by the Chief Consultant for Rehabilitation Strategic Healthcare Group on Audiology and Speech Pathology Programs.

No time will be allocated for receiving oral presentations from the public. However, members of the public may direct questions or submit written statements in advance of the meeting for review by the Committee to Mr. Larry N. Long, Designated Federal Officer, Veterans Health Administration, Patient Care Services, Rehabilitation Strategic Healthcare Group (117D), Department of Veterans Affairs, 810 Vermont Avenue, NW., Washington, DC 20420. Any member of the public wishing to attend the meeting should contact Mr. Long at (202) 273-8479.

Dated: October 12, 2007.
By Direction of the Secretary.
E. Philip Riggin,
Committee Management Officer.

[FR Doc. 07-5123 Filed 10-16-07; 8:45 am]

BILLING CODE 8320-01-M